NUCLEAR REGULATORY COMMISSION

10 CFR Part 50, 52, and 100

[NRC-2024-0110]

Draft Regulatory Guides: Design-Basis Floods for Nuclear Power Plants and Guidance for Assessment of Flooding Hazards Due to Water Control Structure Failures and Incidents

AGENCY: Nuclear Regulatory Commission.

ACTION: Draft guides; extension of comment period.

SUMMARY: On July 15, 2024, the U.S. Nuclear Regulatory Commission (NRC) solicited comments on two related draft Regulatory Guides (DG) namely DG-1290, Revision 1, “Design Basis Floods for Nuclear Power Plants,” proposed Revision 3 of Regulatory Guide (RG) 1.59 of the same name and DG-1417, “Guidance for Assessment of Flooding Hazards due to Water Control Structure Failures and Incidents,” proposed new RG 1.256. The public comment period was originally scheduled to close on August 14, 2024. The NRC has decided to extend the public comment period to allow more time for members of the public to develop and submit their comments.

DATES: The due date of comments requested in the document published on July 15, 2024 (89 FR 57372) is extended. Comments should be submitted no later than September 13, 2024. Comments received after this date will be considered, if it is practical to do so, but the Commission is able to ensure consideration only for comments received on or before this date.

ADDRESSES: You may submit comments by any of the following methods; however, the NRC encourages electronic comment submission through the Federal rulemaking website.

• Federal Rulemaking Website: Go to https://www.regulations.gov and search for Docket ID NRC-2024-0110. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Edward O'Donnell, Office of Nuclear Regulatory Research, telephone: 301-415-3317; email: Edward.O'Donnell@nrc.gov and Joseph Kanney, Office of Nuclear Regulatory Research, telephone: 301-414-1508; email: Joseph.Kanney@nrc.gov. Both are staff of the U.S. Nuclear Regulatory Commission, Washington, DC 20555-0001.

SUPPLEMENTARY INFORMATION:

I. Obtaining Information and Submitting Comments

A. Obtaining Information

Please refer to Docket ID NRC-2024-0110 when contacting the NRC about the availability of information for this action. You may obtain publicly available information related to this action by any of the following methods:

• Federal Rulemaking Website: Go to https://www.regulations.gov and search for Docket ID NRC-2024-0110.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0110 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On July 15, 2024, the NRC solicited comments on two related draft Regulatory Guides namely DG-1290, Revision 1, “Design-Basis Floods for Nuclear Power Plants” (ADAMS Accession No. ML23320A025) and DG-1417 “Guidance for Assessment of Flooding Hazards due to Water Control Structure Failures and Incidents” (ADAMS Accession No. ML22278A110). DG-1290 is proposed Revision 3 of RG 1.59 of the same name and DG-1417 is proposed new RG 1.256. DG-1290 provides guidance for applicants for new nuclear power plants on acceptable methods for evaluating design-basis floods and DG-1417 provides guidance for applicants on flooding hazards due to failure or other incidents at man-made water control structures including, but not limited to, dams and levees. The public comment period was originally scheduled to close on August 14, 2024. The NRC has decided to extend the public comment period on these documents until September 13, 2024, to allow more time for members of the public to submit their comments.

As noted in the Federal Register on December 9, 2022 (87 FR 75671), this document is being published in the “Proposed Rules” section of the Federal Register to comply with publication requirements under chapter I of title 1 of the Code of Federal Regulations (CFR).

III. Submitting Suggestions for Improvement of Regulatory Guides

A member of the public may, at any time, submit suggestions to the NRC for improvement of existing Regulatory Guide (RGs) or for the development of new RGs. Suggestions can be submitted on the NRC's public website at https://www.nrc.gov/reading-rm/doc-collections/reg-guides/contactus.html. Suggestions will be considered in future updates and enhancements to the “Regulatory Guide” series.

Dated: July 19, 2024.
For the Nuclear Regulatory Commission.
Meraj Rahimi,
Chief, Regulatory Guide and Programs Management Branch, Division of Engineering, Office of Nuclear Regulatory Research.

[FR Doc. 2024-16357 Filed 7-25-24; 8:45 am]

BILLING CODE 7590-01-P